DEPARTMENT OF HEALTH AND HUMAN SERVICES

Office of Inspector General

Program Exclusions: November 2002

AGENCY: Office of Inspector General, HHS.

ACTION: Notice of program exclusions.

During the month of November 2002, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ADEM, SUNDAY JOSEPH | 12/19/2002
INGLEWOOD, CA
DE AQUINO, ANTHONY | 12/19/2002
HO-HO-KUS, NJ
DRAKE, MELISSA ANN | 12/19/2002
MAYSEL, WV
ELSAYED, SAYAD MOSTAFA KAMAL | 12/19/2002
LOS ANGELES, CA
FONTENOT, MONA | 12/19/2002
JARREAU, LA
FORTIN, KAREN M | 12/19/2002
CASCO, ME
JACKSON, DONALD EDWARD | 12/19/2002
FAYETTEVILLE, TN
JONES, LORETTA ANN | 12/19/2002
SIGNAL HILL, CA
JONES, LINDA GAIL | 12/19/2002
FLORENCE, SC
MAGLIO, GLYNIS BROWN | 12/19/2002
POTTSBORO, TX
MEN, YEN | 12/19/2002
KENT, WA
MILES, ALICE BURNS | 12/19/2002
TALLAHASSEE, FL
NADOLNI, DIANE MARIE | 12/19/2002
LAKELAND, TN
NURSERY ROAD VILLA, INC | 12/19/2002
CLEARWATER, FL
O'NEAL, JACQUELINE | 12/19/2002
MIRAMAR, FL
OSORIA, KARLA | 12/19/2002
RESEDA, CA
OTIS, STEPHEN MASON | 12/19/2002
MILTON, FL
PEREZ, LEONARDO ANDREZ | 06/04/2001
PEMBROKE PINES, FL
QUARANTA, NICHOLAS | 12/19/2002
MIAMI, FL
RICHARDS, PATRICIA ANN | 12/19/2002
WRIGHT CITY, OK
RODRIGUEZ, FRANCISCO | 12/19/2002
MIAMI, FL
VIEITES, MERCEDES | 01/10/2002
PEMBROKE PINES, FL
YANCY, KAUWYANA RASHAE | 12/19/2002
LITTLE ROCK, AR
FELONY CONVICTION FOR HEALTH CARE FRAUD
BOYD, JONATHAN YATES | 12/19/2002
HOUSTON, TX
DESCANT, STEVEN PATRICK | 12/19/2002
SAN ANTONIO, TX
REAUME, DAVID GEORGE | 12/19/2002
SAN MARCOS, TX
FELONY CONTROL SUBSTANCE CONVICTION
DELEHANTY, ALLISON JILL | 12/19/2002
BETHALTO, IL
HAYS, JON RILEY | 12/19/2002
MARION, IL
STILLWILL, GEORGE A | 12/19/2002
FORT DIX, NJ
WOLF, LESLIE RAE | 12/19/2002
WAYNESVILLES, OH
WOLMERING, CAROLYN A | 12/19/2002
CLARENCE CTR, NY
PATIENT ABUSE/NEGLECT CONVICTIONS
ASHER, JONATHAN PATRICK | 12/19/2002
FT COLLINS, CO
BEST SARVER, REBECCA | 12/19/2002
ENID, OK
BURTON, PHILLIP TAROME | 12/19/2002
LANCASTER, CA
ELLIOTT, NICOLE LEE ANN | 12/19/2002
SPOKANE, WA
HOBSON, JAMES T | 12/19/2002
HOULKA, MS
LEE, WINFRED | 12/19/2002
WASHINGTON, DC
MARTIN, SCOTT W | 12/19/2002
JOHNSON CITY, TN
MOORE, CONSTANCE | 12/19/2002
ROCHESTER, NY
RANSON, CLIFFORD | 12/19/2002
COLUMBIA, SC
SMITH, KAREN KELLY | 12/19/2002
FAIRFAX, OK
SPEIGHT, KIEA | 12/19/2002
ENID, OK
WEBB, CURTIS O'NEAL | 12/19/2002
BANGOR, PA
CONTROLLED SUBSTANCE CONVICTIONS
HODJATI, HASSAN H
SILVER SPRING, MD
LICENSE REVOCATION/SUSPENSION/SURRENDERED
ANDERSON, SUSAN COLLEEN | 12/19/2002
LUSBY, MD
ANDERSON, JOY | 12/19/2002
FARGO, ND
ANDERSON, JORDAN BAXTER | 12/19/2002
OMAHA, NE
ANTHONY, DAWN M | 12/19/2002
GREENSBORO, NC
ASPLIN, MICHAEL S | 12/19/2002
SEMI VALLEY, CA
ATKINSON, ORAN W | 12/19/2002
BRONX, NY
BAIER, FIN TRAVIS | 12/19/2002
PRESCOTT, AZ
BAKER, KEVIN WAYNE | 12/19/2002
NORFOLK, NE
BECKER, STACY LYNN SHIRLEY | 12/19/2002
RANCHO PALOS VERDES, CA
BELLAIRE, EMILY | 12/19/2002
ANTELOPE, CA
BIRD, VICTORIA HAINES | 12/19/2002
CHANDLER, AZ
BOHANNON, RHONDA C BRISCOE | 12/19/2002
PLEASUREVILLE, KY
BUSH, FRANK J | 12/19/2002
DENVER, CO
CANTILADO, STEVEN PHILLIP | 12/19/2002
SAN PEDRO, CA
CARLONI, SUSAN M | 12/19/2002
PROVIDENCE, RI
CELAYA, LINDA GAIL | 12/19/2002
LOS ANGELES, CA
CHRISTOPHERSON, ANNETTE L | 12/19/2002
SCHERTZ, TX
COLLINS, BEVERLY R | 12/19/2002
PORTLAND, ME
CONNER, DENITA DEANNE | 12/19/2002
LAKE CHARLES, LA
COOPER, DEBRA A | 12/19/2002
ROANOKE, VA
CREEF, BRENDA S | 12/19/2002
MIDLOTHIAN, VA
CRUZ, SHANNON L | 12/19/2002
PUEBLO WEST, CO
DAMON, DONNA LYNN | 12/19/2002
TUCSON, AZ
DANSIE, VAE ENNISS | 12/19/2002
RIVERTON, UT
DE GASTON, ALEXIS NEAL | 12/19/2002
MORENO VALLEY, CA
DIAZ, FREDERICK | 12/19/2002
BRONX, NY
DORIAN, JEFFREY PHILIP | 12/19/2002
DAVIE, FL
DREW, ARVIETTE D | 12/19/2002
PORTSMOUTH, VA
DYESS, DANIEL KEITH | 12/19/2002
MOBILE, AL
EDINGTON, STEVEN NOLAN | 12/19/2002
PARAGOULD, AR
EDWARDS, CARMEN WILLIAMS | 12/19/2002
ANTIOCH, CA
ESPINO, GRISELDA | 12/19/2002
SANTA ANA, CA
FELDMAN, NORMA J | 12/19/2002
HARTSDALE, NY
FOREMAN, JULIE ANN | 12/19/2002
HASTINGS, NE
FRAULINI, MICHAEL MARK | 12/19/2002
PORTSMOUTH, OH
GOODWIN, BARBARA G | 12/19/2002
DICKSON, TN
GORE, OWEN C | 12/19/2002
CHANDLER, AZ
GRAY, HARRY L | 12/19/2002
BRADFORD, VT
GREEN, MARY ELISE | 12/19/2002
TUCSON, AZ
GREGOR, CHARLENE M | 12/19/2002
PARK CITY, UT
GROUT, RANDALL L | 12/19/2002
LENOIR, NC
HAMPTON, MARY CAROL | 12/19/2002
GAINSVILLE, TX
HANLON, DONNA C | 12/19/2002
OAKFORD, PA
HENRICHSEN, DAVID A | 12/19/2002
PHOENIX, AZ
HERRING, ALMA JANETTE GRIFFIN | 12/19/2002
LAKE HAVASU CITY, AZ
HILL, EDGAR H JR | 12/19/2002
VIRGINIA BCH, VA
HOLLAR, KIMBERLY J | 12/19/2002
MAIDEN, NC
HORTERT, SHERYL L | 12/19/2002
CORAOPOLIS, PA
JOERG, BRIAN S | 12/19/2002
BASEHOR, KS
JOHNSON, KIMBERLY KAY | 12/19/2002
ALEX, OK
JOHNSON, ELLEN DEE | 12/19/2002
CYPRESS, CA
KAUFFMAN, FRANCINE J | 12/19/2002
VISTA, CA
KEA, WILLIAM PAUL | 12/19/2002
PASADENA, CA
KENNEDY, JANET MARIE | 12/19/2002
MAYER, AZ
KILLION, PATTY ANN | 12/19/2002
SALT LAKE CITY, UT
KING, WILLIAM S | 12/19/2002
SAN DIEGO, CA
KUNTZ, RITA ANN | 12/19/2002
SALINA, KS
LEYBA, SHERRY | 12/19/2002
PARADISE, CA
LIPNICK, ROBERT N | 12/19/2002
WASHINGTON, DC
LONG, JAMES M | 12/19/2002
BIRMINGHAM, AL
LOOMAN, LESLIE CLINTON | 12/19/2002
EDMOND, OK
MANOJILOVICH, PAMELA SUE | 12/19/2002
SEWICKLEY, PA
MARSZALEK-PATCH, JACQUELINE S | 12/19/2002
VERNON, CT
MCALISTER, KIMBERLY MICHELLE | 12/19/2002
SHAWNEE, OK
MCGANN, JON D | 12/19/2002
ENCINITAS, CA
MUIRHEAD, RICHARD JAMES JR | 12/19/2002
SEATTLE, WA
MURPHY, DONNA LYNN | 12/19/2002
MERRIAM, KS
NEDD, JOSETTA | 12/19/2002
SHREVEPORT, LA
NEHLS, DONAVAN EUGENE SR | 12/19/2002
CALICO ROCK, AR
NELSON, J KENT | 12/19/2002
BOUNTIFUL, UT
OBERSTAR, TERRILEE MARGARET | 12/19/2002
LANCASTER, CA
PATEL, PRAVIN KUMAR | 12/19/2002
SYRACUSE, NY
PEDERSEN, LAURA LAREE WEAVER | 12/19/2002
NAMPA, ID
PERCY, PIERRE JOEL | 12/19/2002
CHANDLER, AZ
RAY, DIANNA L | 12/19/2002
ASHEVILLE, NC
RILEY, RODNEY WAYNE | 12/19/2002
EUREKA SPRINGS, AR
RISING, ALISA ANN | 12/19/2002
OGALLALA, NE
ROONEY, LORI COUTRE | 12/19/2002
CARLISLE, PA
ROSENTHAL, MICHAEL JAY | 12/19/2002
CLAREMONT, CA
SALAS, ANGELA AGATHA | 12/19/2002
SOMERTON, AZ
SALAZAR, HOPE | 12/19/2002
SANFORD, CO
SCHMELTER, BRENDA L | 12/19/2002
MARICOPA, AZ
SCHUETZ, LAWANDA MICHELLE | 12/19/2002
AUBURN, NE
SCOTT, LYNDA MARIE | 12/19/2002
PEORIA, AZ
SELF, RHONDA SUE | 12/19/2002
SAN DIEGO, CA
SKROCKI, BRIAN R | 12/19/2002
PLYMOUTH MEETING, PA
SMITH, JEFFRY ALAN | 12/19/2002
RIVERSIDE, CA
SMITH, YTH ZOFFMAN | 12/19/2002
LITTLETON, CO
SMITH, MARY LEE | 12/19/2002
GRAND ISLAND, NE
SNYDER, MICHELLE JEAN | 12/19/2002
WISNER, NE
SPINAZZOLA, VICTORIA | 12/19/2002
PHOENIX, AZ
STONE, SUSAN M | 12/19/2002
DAYTON, OH
TURNER, HERBERT LLOYD | 12/19/2002
CROWN POINT, IN
VILLANUEVA, GRACIELA | 12/19/2002
REEDLEY, CA
WALLINGFORD, TERESA LEANN | 12/19/2002
WICHITA, KS
WARD, GREGORY ALAN | 12/19/2002
TOPEKA, KS
WEINHEIMER, EUGENE H | 12/19/2002
COLUMBIA, MO
WHITMORE, A JAMES III | 12/19/2002
NEW ORLEANS, LA
WILLIAMS, JON MARK | 12/19/2002
LAKE CHARLES, LA
WILSON, MARC DAVID | 12/19/2002
EL PASO, TX
WINANS, STEVEN RONALD | 12/19/2002
PHOENIX, AZ
WINDSOR, MICHAEL SHAWN | 12/19/2002
ROWLETT, TX
YU, JUN | 12/19/2002
ROWLAND HGTS, CA
ZIEGEN, GARY V | 12/19/2002
FRESNO, CA
FEDERAL/STATE EXCLUSION/SUSPENSION
EDMONDS, QUEHEMIAH ZALONTE
SACRAMENTO, CA | 12/19/2002
OWNED/CONTROLLED BY CONVICTED ENTITIES
BEST NURSING CARE, INC | 12/19/2002
MIAMI, FL
COASTAL OUTPATIENT SVCS, INC | 12/19/2002
SPANISH FORT, AL
SERVIALL SYSTEMS | 12/19/2002
MIAMI, FL
QUALITY IMPROVEMENT ORGANIZATION CASES
EDWARDS, GREGSON | 11/27/2002
BROWNSVILLE, TX

Dated: December 4, 2002.
Katherine B. Petrowski,
Director, Exclusions Staff, Office of Inspector General.

[FR Doc. 02-32000 Filed 12-20-02; 8:45 am]

BILLING CODE 4150-04-P